DEPARTMENT OF THE INTERIOR

Bureau of Land Management

Notice of Availability of the Record of Decision for the Right-of-Way Applications Filed by Private Fuel Storage, L.L.C., for an Independent Spent Fuel Storage Installation on the Reservation of the Skull Valley Band of Goshute Indians and the Related Transportation Facility in Tooele County, UT

AGENCY: Bureau of Land Management, Interior.

ACTION: Notice of Availability of Record of Decision.

SUMMARY: The Bureau of Land Management (BLM) has signed a Record of Decision (ROD) concerning two right-of-way applications filed by Private Fuel Storage (PFS), L.L.C, for an independent spent fuel storage installation on reservation lands of the Skull Valley Band of Goshute Indians (Band or Skull Valley Band). The installation is described in an Environmental Impact Statement (EIS) prepared by the Nuclear Regulatory Commission (NRC), entitled “Final Environmental Impact Statement for the Construction and Operation of an Independent Spent Fuel Storage Installation on the Reservation of the Skull Valley Band of Goshute Indians and the Related Transportation Facility in Tooele County, Utah (December 2001).”

Spent nuclear fuel (SNF), the focus of the EIS, is the primary by-product from a nuclear reactor. As proposed, the fuel would be transported from an existing Union Pacific railroad site to the Reservation of the Skull Valley Band in Tooele County, Utah. The applications seek right-of-way grants under Title V of the Federal Land Policy and Management Act (FLPMA), 43 U.S.C. 1761, to transport SNF across public lands managed by the BLM. The BLM was a cooperating agency in the preparation of this EIS, as were the Bureau of Indian Affairs (BIA), U.S. Department of the Interior, and the U.S. Surface Transportation Board. This EIS is available online at http://www.nrc.gov/reading-rm/doc-collections/nuregs/staff/sr1714/v1/.

Additional comments were received by the BLM following its publication on February 7, 2006, of a Federal Register notice at 71 FR 6286 requesting comments on the two right-of-way applications then pending before the agency. The BLM ROD is based on review of the draft EIS; the FEIS; comments received from the public, other Federal agencies, and State and local governments; and discussion of all the alternatives with the cooperating agencies.

The BLM decision is to choose the No Action alternative from the EIS. The effect of this decision is to reject applications U 76985 and U 76986 for right-of-way grants filed by PFS, L.L.C.

FOR FURTHER INFORMATION CONTACT: Jim Hughes; Deputy Director, Bureau of Land Management; 1849 C St., NW., Washington, DC 20240; Telephone: (202) 208-3801.

ADDRESSES: Copies of the Record of Decision are available from Jim Hughes; Deputy Director, Bureau of Land Management; 1849 C St., NW., Washington, DC 20240.

SUPPLEMENTARY INFORMATION:

Cedar Mountain Wilderness Area

On January 6, 2006, after publication of the project's EIS in December 2001, President Bush signed Public Law 109-163, the National Defense Authorization Act for Fiscal Year 2006 (119 Stat. 3136). Section 384 of this Act designated certain lands as wilderness, to be known as the Cedar Mountain Wilderness Area, and added these lands to the National Wilderness Preservation System. The Cedar Mountain Wilderness Area includes lands described in PFS's application U 76985 seeking a right-of-way for a rail line (which had been the preferred Alternative of the EIS). The effect of this wilderness designation is to preclude the BLM's issuance of a right-of-way grant authorizing a rail line through those lands designated as the Cedar Mountain Wilderness Area. As a practical matter, any rail line would be forced to halt at the boundary of the lands designated as the Cedar Mountain Wilderness Area.

The BLM's authority to issue a right-of-way grant for a rail line across the public lands is set forth in Title V of the Federal Land Policy and Management Act (FLPMA), 43 U.S.C. 1761. Section 501(a) of FLPMA provides in part: “The Secretary [of the Interior], with respect to the public lands and, the Secretary of Agriculture, with respect to lands within the National Forest System (except in each case land designated as wilderness), are authorized to grant, issue, or renew rights-of-way over, upon, under, or through such lands for— * * * roads, trails, highways, railroads, * * * or other means of transportation * * * (emphasis added).” Thus, alternatives analyzing transportation by rail were not selected because to grant the right-of-way sought by PFS in application U 76985 would be inconsistent with the purpose for which the BLM manages the public lands and inconsistent with section 501(a) of FLPMA (43 CFR 2804.26(a)(1) and (a)(4)).

Skull Valley Road

Eliminating the proposed rail line right-of-way application U 76985, the second right-of-way application, was discussed in Alternatives 3 and 4 of the EIS (same basic route using the existing Skull Valley Road to the two different nearby sites on the Reservation). Right-of-way application U 76986 would entail constructing an Intermodal Transfer Facility (ITF) and rail siding to be built on lands managed by BLM at the existing main Union Pacific rail line near Timpie, Utah, to transfer SNF shipping casks from rail cars to the heavy-haul vehicles, which would then transport the SNF along the existing Skull Valley Road to the site on the Reservation. No rail line would be built under these alternatives, as the sole access is from the Skull Valley Road. Skull Valley Road is an undivided, two-lane public road, one lane in each direction. The BLM issued a right-of-way (U 04240) for this road to the Utah State Road Commission on May 17, 1951. For the BLM's decisional purposes, these alternatives would involve the issuance of a right-of-way grant authorizing the use of public land for the ITF.

The EIS indicates that these alternatives were not selected because construction and use of the rail line would have advantages over the use of the ITF. The ITF requires the use of heavy-haul trailers traveling on Skull Valley Road at speeds not to exceed 20 miles per hour. Impacts to local traffic would be difficult to mitigate, impacts which could be entirely avoided by use of the rail line from Skunk Ridge. Also, the ITF would involve additional doses of radiation incurred by workers transferring SNF shipping casks from rail cars to heavy-haul vehicles at the ITF. This additional dosage would also be avoided if the rail option were to be used instead of the ITF option. Thus, alternatives analyzing intermodal transfer facilities were not selected because to grant the right-of-way sought by PFS in application U 76986 based on the existing record would be contrary to the public interest (43 CFR 2804.26(a)(2)).

To obtain a copy of the Record of Decision, send a request to the address given in the ADDRESSES section of this notice.

Chad Calvert,
Acting Assistant Secretary, Land and Minerals Management.

[FR Doc. E6-15734 Filed 9-27-06; 8:45 am]

BILLING CODE 4310-84-P